DEPARTMENT OF ENERGY

Western Area Power Administration

Proposed Information Collection To Be Submitted to the Office of Management and Budget (OMB) for Approval Under the Paperwork Reduction Act

AGENCY: Western Area Power Administration, DOE.

ACTION: Notice of request for comments.

SUMMARY: The Western Area Power Administration (Western) invites public comment on a proposed collection of information that Western is developing for submission to the Office of Management and Budget (OMB) pursuant to the Paperwork Reduction Act of 1995.¹ Western invites comments on: (1) Whether the proposed collection of information is necessary for the proper performance of the functions of the agency, including whether the information shall have practical utility; (2) the accuracy of the agency's estimate of the burden of the proposed collection of information, including the validity of the methodology and assumptions used; (3) ways to enhance the quality, utility, and clarity of the information to be collected; and (4) ways to minimize the burden of the collection of information on respondents, including through the use of automated collection techniques or other forms of information technology.

¹ See 44 U.S.C. 3501, et seq.

DATES: Comments regarding this proposed information collection must be received on or before the close of the comment period which is March 31, 2008. Consideration will be given to all comments received on or before the close of the comment period.

ADDRESSES: Written comments or suggestions may be sent to the Acting Power Marketing Advisor at 12155 W. Alameda Parkway, Lakewood, CO 80228, by fax at 720-962-7009, or by e-mail at pracomments@wapa.gov. Please include the subject matter: Paperwork Reduction Act Information Collection.

FOR FURTHER INFORMATION CONTACT: Requests for additional information should be directed to Melanie Reed at 970-461-7229.

SUPPLEMENTARY INFORMATION:

I. Statutory Authority

Reclamation Laws are a series of laws arising from the Desert Land Act of 1872 and include but are not limited to: The Desert Land Act of 1872, Reclamation Act of 1902, Reclamation Project Act of 1939, and the Acts authorizing each individual project such as the Central Valley Project Authorizing Act of 1937.² The Reclamation Act of 1902 established the Federal reclamation program.³ The basic principle of the Reclamation Act of 1902 was that the United States, through the Secretary of Interior, would build and operate irrigation works from the proceeds of public land sales in the sixteen arid Western states (a seventeenth was added later). The Reclamation Project Act of 1939 expanded the purposes of the reclamation program and specified certain terms for contracts that the Secretary of Interior enters into to furnish water and power.⁴ Congress enacted the Reclamation Laws for purposes that include enhancing navigation, protection from floods, reclaiming the arid lands in the Western United States, and for fish and wildlife.⁵ Congress intended that the production of power would be a supplemental feature of the multi-purpose water projects authorized under the Reclamation Laws.⁶ No contract entered into by the United States for power may impair the efficiency of the project for irrigation purposes.⁷ Section 5 of the Flood Control Act of 1944 is read in pari materia with Reclamation Laws.⁸ In 1977, the Department of Energy Organization Act transferred the power marketing functions of the Department of Interior to Western.⁹ Pursuant to this authority, Western markets Federal hydropower. As part of Western's marketing authority, Western needs to obtain information from interested entities who desire an allocation of Federal power. The Paperwork Reduction Act of 1995 requires Western to obtain a clearance from OMB before collecting certain information.¹⁰

² See Ch. 107, 19 Stat. 377 (1872), Ch. 1093, 32 Stat. 388 (1902), Ch. 418, 53 Stat. 1187 (1939), Ch. 832, 50 Stat. 844, 850 (1937), all as amended and supplemented.

³ See, Ch. 1093, 32 Stat. 388, as amended and supplemented.

⁴ See, Ch. 418, 53 Stat. 1187 (1939), as amended and supplemented.

⁵ See, e.g., Ch. 832, 50 Stat. 844, 850 (1937), as amended and supplemented.

⁶ See, e.g., Ch. 832, 50 Stat. 844, 850 (1937), as amended and supplemented.

⁷ See, 43 U.S.C. 485h(c).

⁸ See, Act of December 22, 1944, Ch. 665, 58 Stat. 887), as amended and supplemented.

⁹ See, 42 U.S.C. 7152(a)(1)(E).

¹⁰ See 44 U.S.C. 3501, et seq.

II. Background

Western is a Federal agency under the Department of Energy that markets and transmits wholesale electrical power from 56 Federal hydropower plants and one coal-fired plant. Western sells about 40 percent of regional hydroelectric generation in a service area that covers 1.3 million square miles in 15 states. To provide this reliable electric power to most of the western half of the United States, Western markets and transmits about 10,000 megawatts of hydropower across an integrated 17,000-circuit mile, high voltage transmission system. Western's preference customers include municipalities, cooperatives, public utility and irrigation districts, Federal and State agencies, and Native American tribes. They, in turn, provide retail electric service to millions of consumers in Arizona, California, Colorado, Iowa, Kansas, Minnesota, Montana, Nebraska, Nevada, New Mexico, North Dakota, South Dakota, Texas, Utah, and Wyoming.

As part of its marketing mission, Western proposes to collect information from entities which may be interested in obtaining a power allocation from Western. Western will submit the information clearance requirement to the Office of Management and Budget after analyzing and responding to all comments received through this process. As required by the Paperwork Reduction Act, after receiving comments, Western will publish a notice of submittal.¹¹

¹¹ See, 44 U.S.C. 3507.

Pursuant to this proposed information collection, Western invites comments on: (1) Whether the proposed collection of information is necessary for the proper performance of the functions of the agency, including whether the information will have practical utility; (2) the accuracy of the agency's estimate of burden, including the validity of the methodology and assumptions used; (3) ways to enhance the quality, utility, and clarity of the information to be collected; and (4) ways to minimize the burden of the collection of information on respondents, including through the use of appropriate automated, electronic, mechanical, or other technological collection techniques or other forms of information technology. The proposed information collections in this program will not be part of a system of records covered by the Privacy Act,¹² and will be available under the Freedom of Information Act.¹³

¹² See, 5 U.S.C. 552(a).

¹³ See, 5 U.S.C. 552.

III. Purpose of Proposed Collection

The proposed collection of information is necessary for the proper performance of Western's functions. Western markets a limited amount of Federal power. Western has discretion to determine who will receive an allocation of Federal power. Due to the high demand for Western's power and limited amount of available power, under established marketing plans, Western needs to be able to collect information to evaluate who may receive an allocation of Federal power. As a result, the information Western collects is both necessary and useful.

This public process only determines the information which Western will collect from an entity desiring to apply for a Federal power allocation. The information Western proposes to collect is voluntary. Western will use the information collected, in conjunction with its marketing plan, to determine an entity's eligibility and ultimately who will receive an allocation of Federal power. Western will issue a call for application, as part of its marketing plan which will occur through a separate process. The actual allocation of power is outside the scope of this proceeding.

IV. Information Western Proposes To Collect

A. Applicant Profile Data (APD)

Western proposes to collect the information described below. Western will collect the information through an application. As part of this process, Western has identified what it believes is the minimum amount of information Western needs for its Regions to properly perform the functions of the agency. Due to the variations that may be developed in each Region, each Region through its marketing plan, may determine that it does not need all of the information. Each Region will identify the subset of the data that it will require in its application through its call for application.

Western proposes the applicant provide the information requested or the most reasonable estimates that are available. If the requested information is not applicable or is not available, the applicant shall note it. Western will request, in writing, additional information from any applicant whose application is deficient. Western will notify the applicant when such information is due. In the event that by the due date, an applicant fails to provide sufficient information to allow Western to make a determination regarding eligibility, the application will not be considered. The content and format of the proposed APD are outlined below.

B. Form of APD

OMB Clearance Number___

Applicant Profile Data

All items of information in the Applicant Profile Data (APD) should be answered as if prepared by the entity/organization seeking the allocation of Federal power. The APD shall consist of the following:

1. Applicant Information. Please provide the following:

a. Applicant's (entity/organization requesting an allocation) name and address:

Applicant's Name:
Address:
City:
State:
Zip:

b. Person(s) representing the applicant:

Contact Person (Name & Title):
Address:
City:
State:
Zip:
Telephone:
Fax:
Email Address:

c. Type of entity/organization:

☐ Federal Agency

☐ Irrigation District

☐ Municipal, Rural, or Industrial User

☐ Municipality

☐ Native American Tribe

☐ Public Utility District

☐ Rural Electric Cooperative

☐ State Agency

☐ Other, please specify:

d. Parent entity/organization of the applicant, if any:

e. Name of the applicant's members, if any: (Separated by commas)

f. Applicable law under which the applicant was established:

g. Applicant's geographic service area (if available, please submit a map of the service area and indicate the date prepared):

h. Describe whether the applicant owns and operates its own electric utility system.

i. Provide the date the applicant attained utility status. 10 CFR part 905.35 defines utility status to mean “that the entity has responsibility to meet load growth, has a distribution system, and is ready, willing, and able to purchase power from Western on a wholesale basis for resale to retail consumers.”

j. Describe the entity/organization that will interact with Western on contract and billing matters.

2. Service Requested:

a. Provide the amount of power the applicant is requesting to be served by Western.

3. Applicant's Loads:

a. Utility and non-utility applicants:

(i) If applicable, provide the number and type of customers served (e.g., residential, commercial, industrial, military base, agricultural):

Customer Type and Number
| Residential | Commercial | Industrial | Military | Ag. | Other
Number of customers
If not applicable, explain why |

(ii) Provide the actual monthly maximum demand (kilowatts) and energy use (kilowatt-hours) for each calendar month experienced in calendar year 20_:

Calendar Year 20_
| January | February | March | April | May | June
Demand (kilowatts)
Energy (kilowatt-hours)
| July | August | September | October | November | December
Demand (kilowatts)
Energy (kilowatt-hours)

(iii) Provide the average annual load factor for calendar year 20_:

Calendar Year 20_ Average Annual Load Factor

(iv) Provide the average monthly load factors for calendar year 20_:

Calendar Year 20_
[Average Monthly Load Factor]
| January | February | March | April | May | June
Load Factor
| July | August | September | October | November | December
Load Factor

(v) Identify any factors or conditions in the next 5 years which may significantly change peak demands, load duration, or profile curves.

b. Native American Tribe applicants only:

(i) Indicate the utility or utilities currently serving your loads:

(ii) If applicable, provide the number and type of customers served (e.g., residential, commercial, industrial, military base, agricultural):

Customer Type and Number
| Residential | Commercial | Industrial | Military | Ag. | Other
Number of customers
If not applicable, explain why: |

(iii) Provide the actual monthly maximum demand (kilowatts) and energy use (kilowatt-hours) experienced in calendar year 20_. If the actual demand and energy data are not available provide the estimated monthly demand:

Calendar Year 20_
| January | February | March | April | May | June
Demand (kilowatts)
Energy (kilowatt-hours)
| July | August | September | October | November | December
Demand (kilowatts)
Energy (kilowatt-hours)

(iv) If the demand and energy data in 3.b(iii) above is estimated, provide a description of the method and basis for this estimation in the space provided below:

(v) Provide the actual average annual load factors for calendar year 20_. If the actual load factors are not available, provide the estimated load factors: Calendar Year 20_ Average Annual Load Factor

(vi) Provide the actual monthly load factors for calendar year 20_. If the actual load factors are not available, provide the estimated load factors.

Calendar Year 20_ Average Monthly Load Factor
| January | February | March | April | May | June
Load Factor
| July | August | September | October | November | December
Load Factor

(vii) If the load factor data in 3.b.(v-vi) is estimated, provide a description of the method and basis for this estimation in the space provided below:

(viii) Identify any factors or conditions in the next 5 years which may significantly change peak demands, load duration, or profile curves:

4. Applicant's Resources. Please provide the following information:

a. A list of current power supplies if applicable, including the applicant's own generation, as well as purchases from others. For each supply, provide the resource name, capacity supplied, and the resource's location. Power supplies (resource name, capacity & location):

b. For each power supplier, provide a description and status of the power supply contract (including the termination date):

c. For each power supplier, provide the type of power:

☐ Power supply is on a firm basis.

☐ Power supply is not on a firm basis. Please explain:

5. Transmission:

a. Points of delivery. Provide the requested point(s) of delivery on Western's transmission system (or a third party's transmission system), the voltage of service required, and the capacity desired, if applicable.

b. Transmission arrangements. Describe the transmission arrangements necessary to deliver firm power to the requested points of delivery. Include a brief description of the applicant's transmission and distribution system including major interconnections. Provide a single-line drawing of applicant's system, if one is available.

c. Provide a brief explanation of the applicant's ability to receive and use, or receive and distribute Federal power as of [date].

6. Other Information. The applicant may provide any other information pertinent to receiving an allocation.

7. Signature: Western requires the signature and title of an appropriate official who is able to attest to the validity of the APD and who is authorized to submit the request for an allocation.

By signing below, I certify the information which I have provided is true and correct to the best of my information, knowledge and belief.

Signature ____________

Title ______________

Applications may be submitted by U.S. mail to the address below or electronically to xxxx@wapa.gov with an electronic signature. If submitting this application electronically and an electronic signature is not available, please fax this page with a signature to (xxx) xxx-xxx, or mail it to ___ Region, Western Area Power Administration, Address, State, City, Zip Code.

Recordkeeping Requirements: If Western accepts your application and you receive an allocation of Federal power you must keep all records associated with your APD for a period of 3 years after you sign your contract for Federal power. If you do not receive an allocation of Federal power, there is no recordkeeping requirement.

Western has obtained an OMB Clearance Number ___ for the collection of the above information.

V. Paperwork Reduction Requirements

A. Introduction

1. OMB Number: Western will obtain a new OMB Number. This number will be displayed on front page of the APD.

2. Title: Western will title the Information Collection Request: Applicant Profile Data.

3. Type of Review: Western will request that OMB treat its review as a New Review for an existing collection.

4. Purpose: The proposed collection of information is necessary for the proper performance of Western's functions. Western markets a limited amount of Federal power. Western has discretion to determine who may receive an allocation of Federal power. Due to the high demand for Western's power and limited amount of available power, under established marketing plans, Western needs to be able to collect information to evaluate who will receive an allocation of Federal power. As a result, the information Western collects is both necessary and useful. This public process only determines the information which Western will collect in its application. The actual allocation of Federal power will be done through a separate process and is outside the scope of this proceeding.

5. Respondent: The response is voluntary. However, in the event an entity seeks an allocation of Federal power, the applicant must submit an APD. Western has identified the following class of respondents as the most likely to apply: municipalities, cooperatives, public utilities, irrigation districts, Native American Tribes, Federal and State agencies. The respondents will be located in Arizona, California, Colorado, Iowa, Kansas, Minnesota, Montana, Nebraska, Nevada, New Mexico, North Dakota, South Dakota, Texas, Utah, and Wyoming. Depending on the amount of power that becomes available for allocation, Western anticipates it could receive up to 100 requests for power during the 3-year period when the OMB Clearance Number is in effect. Western does not anticipate annual responses. The responses will be periodic and occur when Western has power available under an allocation process.

6. Number of Burden Hours:

a. Initial Application: Western anticipates that it will take less than 4 hours to complete the APD. Once the respondent completes the APD, it will submit the APD to Western for Western's review. After submitting the APD, provided the APD is complete and no clarification is required, Western does not anticipate requiring any further information for the APD from the applicant, unless the applicant is successful in obtaining a power allocation. The applicant submits only one APD. It does not submit an APD every year. If the applicant receives a power allocation, the applicant will need to complete a standard contract to receive its power allocation. Western's standard contract terms are outside the scope of this process.

b. Record Keeping: There is no mandatory record keeping requirements on the applicant if it does not receive an allocation of Federal power. In such case, any record keeping of the APD by a respondent is voluntary. For those entities that receive a Federal power allocation, Western proposes a requirement to keep the information for 3 years after the applicant signs its Federal power contract. The 3-year record retention policy proposed for such applicants will allow Western sufficient time to administer the contract and to ensure the applicant provided factual information in its application. Western anticipates that a 3-year record retention policy will have little impact on most businesses in the power industry. Western anticipates that it would take less than 1 hour per successful candidate per year for record keeping purposes. Western anticipates that in a 3-year period, Western will have less than 30 successful applicants.

c. Methodology: Based on the total number of burden hours and the total number of applications described above, Western expects that over a 3-year period, the total burden hours to fill out the APD is 400 hours for 3 years (100 applicants over 3 years × 4 hours per applicant). This converts to an annual hourly burden of 133.333 hours. An entity will only fill out the APD once. It is not required to fill out the APD each year.

Based on the above, Western anticipates that there will be additional cost burdens for record keeping of 1 hour per year for each successful applicant, i.e., each applicant who receives a Federal power allocation. Western anticipates that over the course of 3 years there will be 30 successful applicants. The power may be allocated in year 1, year 2 or year 3. For the purposes of determining the cost burden, Western will presume all 30 applicants received an allocation in year 1. As a result, the annual hourly burden for record keeping is 30 hours.

For the purposes of this cost burden analysis, Western is assuming that a staff level power utility specialist will fill out the APD. Western estimates a staff level power utility specialist rate, including administrative overheard to be approximately $100/hour. For record keeping, Western estimates an administrative support rate of $50/hour. Based on the above, Western estimates the total annual cost as (133.333 hour/year × $100/hour) + (30 hour/year × $50/hour) = $14,833 per year.

Using the above estimates, on a per applicant basis, assuming the applicant receives a Federal power allocation, the total cost for the applicant over a 3-year period is $550. The cost to fill out the APD is a one time cost of $400. In addition to the one time cost, the applicant, if it successfully receives a power allocation, will incur an additional expense of 1 hour for record keeping per year × $50 per hour for a total record keeping cost of $150 for 3 years.

d. Summary of Burdens:

Table 1.—Annual Hour Burden Estimates
Activity | Number of respondents | Number of responses per respondent | Average burden hour per response | Subtotal burden hours
APD | 33.333 | 1 | 4 | 133.33
Recordkeeping | 30 | 1 | 1 | 30.00
Total Burden |  |  |  | 163.33

Table 2.—Annual Cost Burden Estimate
Instrument | Number of respondents | Number of responses per respondent | Average annual burden hour | Cost per burden hour | Cost per response | Subtotal cost
Prepare APD | 33.333 | 1 | 4 | $100 | $400 | $13,333.20
Recordkeeping | 30 | 1 | 1 | 50 | 50 | 1,500.00
Total Cost |  |  |  |  |  | 14,833.20

The procedure and process for the allocation of power shall be the subject matter of a separate notice and is outside the scope of this process.

B. Does the proposed collection of data avoid unnecessary duplication?

To avoid unnecessary duplication, Western proposes that only entities who desire a Western allocation be required to submit an APD.

As it relates to each of the components of the APD, there is no duplication. Section 1 is information Western needs to determine who the applicant is, whether the applicant is a preference entity and whether the applicant is ready, willing and able to receive and/or distribute Federal power. Section 2 identifies the amount of Federal power which the applicant requests. Section 3 identifies the applicant's loads. Section 4 identifies the applicant's resources. Section 5 identifies the applicant's transmission delivery arrangements necessary to receive Federal power. Section 6 is voluntary and provides the applicant with the ability to provide any additional information. Section 7 is an attestation that the information provided is true and accurate to the best of the applicant's knowledge.

C. Does the proposed collection reduce the burden on the respondent, including small entities, to the extent practicable and appropriate?

The proposed information requested is the minimum amount of information to determine whether the applicant qualifies as a preference entity and is ready, willing and able to receive an allocation of Federal power.

D. Does the proposed collection use plain, coherent, and unambiguous language that is understandable to the respondent?

The proposed collection uses plain, coherent, and unambiguous language that is understandable to the target audience. The terms are those used in the power industry. Western does not market power to individual members of the public such as homeowners or shopkeepers. Preference entities are statutorily designated potential customers who generally are involved in the power business. As a result, the language used in the application is understandable to the target audience.

E. Is the proposed collection consistent with and compatible with the respondent's current reporting and recordkeeping practices to the maximum extent practicable?

The proposed information collection is voluntary. Western proposes to use the information to determine whether an applicant qualifies as a preference entity to receive an allocation of Federal power. As discussed above, there is no mandatory recordkeeping requirement on the applicant if it does not receive an allocation of Federal power. For those entities that receive a Federal power allocation, Western proposes a requirement that they keep the information for 3 years after Western grants the power allocation and the applicant signs a Federal power contract. The proposed 3-year record retention policy for such applicants would allow Western sufficient time to administer the contract and to ensure the applicant provided factual information in its application. Western anticipates that a 3-year record retention policy will have little impact on most businesses in the power industry who will keep the APD as part of their normal business records. The procedure and process for the allocation of power shall be the subject matter of a separate notice and is outside the scope of this process.

F. Does the proposed collection indicate the retention period for any recordkeeping requirements for the respondent?

The APD identifies that there is no recordkeeping requirement for the respondent if it does not receive an allocation of Federal power. It also identifies that applicants who receive an allocation of Federal power must retain the records for 3 years.

G. Does the proposed collection inform the public of the information they need to exercise scrutiny of the agency collecting information (the reasons the proposed information is collected, the way it is used, an estimate of the burden, whether the response is voluntary, required to obtain a benefit, or mandatory and a statement that no person is required to respond unless a valid OMB control number is displayed)?

If an entity desires a Federal power allocation from Western, Western needs certain information to determine whether the entity is eligible to receive power. Western has a limited amount of power available. Western uses its discretion in allocating power. In order to use its discretion in allocating power, Western will use the information collected on the application. Western will not accept incomplete applications. Western will work with Native American Tribes and other entities who may need assistance in filling out the application. No person is required to submit any information unless a valid OMB control number is displayed. No person is required to submit any information unless they desire a Federal power allocation.

H. Is the proposed collection developed by an office that has planned and allocated resources for the efficient and effective management and use of the information collected?

Western's power marketing offices will administer and evaluate the applications. Use and management of the collected information has been factored into these offices functions and resource requirements. Historically, Western has requested the same relative information from applicants in past marketing plan initiatives and effectively utilized Western resources to utilize and manage the information in its determinations. The power marketing offices will make a recommendation to Western's Administrator on which applicant(s) should be awarded a Federal power allocation based on the information contained in the APD. Western's Administrator shall use his discretion in the final power allocations. The procedure and process for the allocation of power shall be the subject matter of a separate notice and is outside the scope of this process.

I. Does the proposed collection use effective and efficient statistical survey methods?

Since the proposed information collected is used to determine whether an applicant receives an allocation of Federal power, this section is inapplicable.

J. Does the proposed collection use information technology to the maximum extent practicable to reduce the burden and to improve data quality, agency efficiency, and responsiveness to the public?

The APD will be accessible for downloading via Western's Web site. Western will accept electronic-mail submission of the APD, as well as submission via fax or regular mail. Applicants cannot enter the information on Western's Web site.

VI. Invitation for Comments

Western invites public comment on a proposed collection of information that Western is developing for submission to OMB pursuant to the Paperwork Reduction Act of 1995. Comments are invited on: (1) Whether the proposed collection of information is necessary for the proper performance of the functions of the agency, including whether the information shall have practical utility; (2) the accuracy of the agency's estimate of the burden of the proposed collection of information, including the validity of the methodology and assumptions used; (3) ways to enhance the quality, utility, and clarity of the information to be collected; and (4) ways to minimize the burden of the collection of information on respondents, including through the use of automated collection techniques or other forms of information technology.

Dated: January 3, 2008.
Timothy J. Meeks,
Administrator.

[FR Doc. E8-1504 Filed 1-29-08; 8:45 am]

BILLING CODE 6450-01-P